SMALL BUSINESS ADMINISTRATION

[Disaster Declaration #21430; LOUISIANA Disaster Number LA-20012]

Administrative Declaration Amendment of an Economic Injury Disaster for the State of Louisiana

AGENCY: U.S. Small Business Administration.

ACTION: Amendment 1.

SUMMARY: This is an amendment of the Economic Injury Disaster Loan (EIDL) declaration for the state of Louisiana dated February 2, 2026.

Incident: 2026 Severe Winter Storm.

DATES: Issued on February 9, 2026.

Incident Period: January 23, 2026 through January 25, 2026.

Economic Injury (EIDL) Loan Application Deadline Date: November 2, 2026.

ADDRESSES: Visit the MySBA Loan Portal at https://lending.sba.gov to apply for a disaster assistance loan.

FOR FURTHER INFORMATION CONTACT: Sharon Henderson, Office of Disaster Recovery and Resilience, U.S. Small Business Administration, 409 3rd Street SW, Suite 6050, Washington, DC 20416, (202) 205-6734.

SUPPLEMENTARY INFORMATION: The notice of an Economic Injury declaration for the state of Louisiana dated February 2, 2026, is hereby amended to include the following areas as adversely affected by the disaster.

Primary Parish: DeSoto.

Contiguous Parishes/Counties:

Louisiana: Natchitoches, Sabine.

Texas: Panola, Shelby.

All other information in the original declaration remains unchanged.

(Catalog of Federal Domestic Assistance Number 59008)

(Authority: 13 CFR 123.(b).)

James Stallings,
Associate Administrator, Office of Disaster Recovery & Resilience.

[FR Doc. 2026-03026 Filed 2-13-26; 8:45 am]

BILLING CODE 8026-09-P